DEPARTMENT OF ENERGY

International Energy Agency Meetings

AGENCY: Department of Energy.

ACTION: Notice of meetings.

SUMMARY: The Industry Advisory Board (IAB) to the International Energy Agency (IEA) will meet on September 17, 2008, at the headquarters of the IEA in Paris, France, in connection with a joint meeting of the IEA's Standing Group on Emergency Questions (SEQ) and the IEA's Standing Group on the Oil Market which is scheduled to be held at the same location and time, and on September 18 in connection with a meeting of SEQ.

DATES: September 17-18, 2008.

ADDRESSES: 9, rue de la Fédération, Paris, France.

FOR FURTHER INFORMATION CONTACT: Diana D. Clark, Assistant General Counsel for International and National Security Programs, Department of Energy, 1000 Independence Avenue, SW., Washington, DC 20585, 202-586-3417.

SUPPLEMENTARY INFORMATION: In accordance with section 252(c)(1)(A)(i) of the Energy Policy and Conservation Act (42 U.S.C. 6272(c)(1)(A)(i)) (EPCA), the following notice of meeting is provided:

Meetings of the Industry Advisory Board (IAB) to the International Energy Agency (IEA) will be held at the headquarters of the IEA, 9, rue de la Fédération, Paris, France, on September 17, 2008, beginning at 9 a.m. and on September 18 beginning at 9 a.m. The purpose of this notice is to permit attendance by representatives of U.S. company members of the IAB at a joint meeting of the IEA's Standing Group on Emergency Questions (SEQ) and the IEA's Standing Group on the Oil Market (SOM) on September 17, and a meeting of the SEQ on September 18. The IAB will also hold a preparatory meeting among company representatives at the same location from 8:30 a.m. to 9 a.m. on September 18. The agenda for this preparatory meeting is to discuss the September 17 joint meeting of the SEQ and SOM and to review the agenda for the SEQ meeting.

The agenda of the joint SEQ/SOM meeting on September 17 is under the control of the SEQ and the SOM. It is expected that the SEQ and the SOM will adopt the following agenda:

1. Adoption of the Agenda

2. Approval of the Summary Record of the March 2008 SEQ/SOM Joint Session

3. Oil Market Update

—Presentation on the Medium-term Oil Market Report

—Update on the Near-Term Oil Market

—Follow-up to the Jeddah Oil Summit

4. Natural Gas Market Update

—The IEA Gas Market Review 2008 (published September 2008)

—Security of Natural Gas Supply

5. Links between the Oil and Gas Markets: Perspectives for Emergency Preparedness

6. Weekly Reporting of Stock Data as Proposed by the EU

7. Finalizing the Program of Work 2009-2010

The agenda of the SEQ meeting on September 18, 2008, is under the control of the SEQ. It is expected that the SEQ will adopt the following agenda:

1. Adoption of the Agenda

2. Approval of the Summary Record of the 123rd Meeting

3. Status of Compliance with IEP Stockholding Commitments

4. Emergency Response Exercise 4

—Evaluation of ERE4 and Lessons Learned for Future Work

5. Policy and Other Developments in Member Countries

—Czech Republic

—United States

—Australia

—Turkey

6. Activities with International Organizations and Non-Member Countries

—Accession of Poland to the IEA

—Towards a Revised EU Directive on Emergency Oil Stocks

—Accession of Estonia to the IEA

7. Documents for Information

—Monthly Oil Statistics: June 2008

—Emergency Reserve Situation of IEA Member Countries on July 1, 2008

—Emergency Reserve Situation of IEA Candidate Countries on July 1, 2008

—Base Period Final Consumption: 3Q 2007-2Q 2008

—Schedule of Emergency Response Reviews

—Emergency Contacts List

8. Other Business

—Tentative Schedule of Meetings

—November 18-20, 2008

—March 24-26, 2009

—June 23-25, 2009

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the Government Accountability Office, Committees of Congress, the IEA, and the European Commission; and invitees of the IAB, the SEQ, the SOM, or the IEA.

Issued in Washington, DC, August 29, 2008.
Diana D. Clark,
Assistant General Counsel for International and National Security Programs.

[FR Doc. E8-20623 Filed 9-4-08; 8:45 am]

BILLING CODE 6450-01-P